CONSUMER PRODUCT SAFETY COMMISSION

[Docket No. CPSC-2009-0064]

Proposed Extension of Approval of Information Collection; Comment Request—Infant Bath Seats

AGENCY: Consumer Product Safety Commission.

ACTION: Notice.

SUMMARY: As required by the Paperwork Reduction Act of 1995 (44 U.S.C. chapter 35), the Consumer Product Safety Commission (CPSC or Commission) requests comments on a proposed request for extension of approval of a collection of information for the safety standard for infant bath seats. The Office of Management and Budget (OMB) previously approved the collection of information under control number 3041-0145. OMB's approval will expire on October 30, 2013. The Commission will consider all comments received in response to this notice before requesting an extension of approval of this collection of information from OMB.

DATES: The Office of the Secretary must receive comments not later than October 29, 2013.

ADDRESSES: You may submit comments, identified by Docket No. CPSC-2009-0064, by any of the following methods:

Electronic Submissions: Submit electronic comments to the Federal eRulemaking Portal at: http://www.regulations.gov. Follow the instructions for submitting comments. The Commission does not accept comments submitted by electronic mail (email), except through www.regulations.gov. The Commission encourages you to submit electronic comments by using the Federal eRulemaking Portal, as described above.

Written Submissions: Submit written submissions in the following way: Mail/Hand delivery/Courier (for paper, disk, or CD-ROM submissions), preferably in five copies, to: Office of the Secretary, Consumer Product Safety Commission, Room 820, 4330 East West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information that you do not want to be available to the public. If furnished at all, such information should be submitted in writing.

Docket: For access to the docket to read background documents or comments received, go to: http://www.regulations.gov, and insert the docket number, CPSC-2009-0064, into the “Search” box, and follow the prompts.

FOR FURTHER INFORMATION CONTACT: For further information contact: Robert H. Squibb, Consumer Product Safety Commission, 4330 East West Highway, Bethesda, MD 20814; (301) 504-7815, or by email to: rsquibb@cpsc.gov.

SUPPLEMENTARY INFORMATION:

A. Background

Section 104(b) of the Consumer Product Safety Improvement Act of 2008 (CPSIA), Public Law 110-314, 122 Stat. 3016 (August 14, 2008), requires the Consumer Product Safety Commission (Commission or CPSC) to promulgate consumer product safety standards for durable infant or toddler products. These standards are to be “substantially the same as” applicable voluntary standards or more stringent than the voluntary standard if the Commission concludes that more stringent requirements would further reduce the risk of injury associated with the product. On June 4, 2010, the Commission issued a safety standard for infant bath seats that incorporated by reference the voluntary standard for infant bath seats issued by ASTM International, ASTM F1967-08a, with some modifications to further reduce the risk of injury associated with infant bath seats. 75 FR 31691. On July 31, 2012, the Commission adopted the revised ASTM standard for infant bath seats, ASTM F1967-11a. 77 FR 45242. The requirements for infant bath seats are set forth under 16 CFR part 1215.

Sections 8.6 and 9 of ASTM F1967-11a contain requirements for marking, labeling, and instructional literature, which may be considered to be collections of information. Section 8.6 of ASTM F1967-11a requires:

• The name of the manufacturer, distributor, or seller and either the place of business (city, state, and mailing address, including zip code), or telephone number, or both; and

• a code mark or other means that identifies the date (month and year, as a minimum) of manufacture.

Section 9 of ASTM F1967-11a requires infant bath seats to be provided with instructions regarding assembly, maintenance, cleaning, storage, and use, as well as warnings.

B. Burden Hours

There are seven known firms supplying infant bath seats to the U.S. market. All seven firms are assumed to use labels on both their products and their packaging; however, modifications to existing labels may be required to comply with the ASTM standard. The estimated time required to make these modifications is about one hour per model. On the average, each of the seven firms supplies approximately two different models of infant bath seats; therefore, the estimated burden hours associated with modified labels is 1 hour × 7 firms × 2 models per firm = 14 annual hours.

Section 9 of ASTM F1967-11a requires instructions to be supplied with the product. This is a practice that is usual and customary with infant bath seats. These are products that generally require some installation and maintenance instructions, and any products sold without such information would not be able to compete successfully with products that provide this information. Any burden associated with supplying instructions with infant bath seats would be “usual and customary” and not within the definition of “burden” under OMB's regulations. 5 CFR 1320.3(b)(2).

We estimate that hourly compensation for the time required to create and update labels is $27.44, based on the assumption that sales or office employees will be modifying the labels as required (U.S. Bureau of Labor Statistics, “Employer Costs for Employee Compensation,” March 2013, Table 9, total compensation for all sales and office workers in goods-producing private industries: http://www.bls.gov/ncs/). Therefore, the estimated annual cost associated with the requirements is $384 ($27.44 per hour × 14 hours = $384).

The estimated annual cost of the information collection requirements to the federal government is approximately $3,527, which includes 60 CPSC staff hours to examine and evaluate the information, as needed for monitoring and enforcement. This is based on a GS-12 level, salaried employee. The average hourly wage rate for a mid-level salaried GS-12 employee in the Washington, DC, metropolitan area (effective as of January 2011) is $40.80 (GS-12, step 5). This represents 69.5 percent of total compensation (U.S. Bureau of Labor Statistics, “Employer Costs for Employee Compensation,” March 2013, Table 1, percentage of wages and salaries for all civilian management, professional, and related employees, http://www.bls.gov/ncs/). Adding an additional 30.5 percent for benefits brings average hourly compensation for a mid-range salaried GS-12 employee to $58.78. Assuming that approximately 60 hours of staff time will be required annually, the total annual cost of CPSC staff time to examine and evaluate the information is estimated at $3,527.

C. Request for Comments

The Commission solicits written comments from all interested persons about the proposed collection of information. The Commission specifically solicits information relevant to the following topics:

—whether the collection of information described above is necessary for the proper performance of the Commission's functions, including whether the information would have practical utility;

—whether the estimated burden of the proposed collection of information is accurate;

—whether the quality, utility, and clarity of the information to be collected could be enhanced; and

—whether the burden imposed by the collection of information could be minimized by use of automated, electronic or other technological collection techniques, or other forms of information technology.

Dated: August 27, 2013.
Todd A. Stevenson,
Secretary, Consumer Product Safety Commission.

[FR Doc. 2013-21214 Filed 8-29-13; 8:45 am]

BILLING CODE 6355-01-P